DEPARTMENT OF TRANSPORTATION

National Highway Traffic Safety Administration

49 CFR Part 571

[Docket No. NHTSA 2005-20028]

Federal Motor Vehicle Safety Standards

AGENCY: National Highway Traffic Safety Administration (NHTSA), DOT.

ACTION: Denial of Petition for Rulemaking.

SUMMARY: This document denies a petition for rulemaking submitted by Mr. Richard T. Ince of C & J Technology Inc., to amend provisions of the Federal motor vehicle safety standard (FMVSS) for rearview mirrors pertaining to the test procedure for school bus driving mirrors.

FOR FURTHER INFORMATION CONTACT: For technical issues: Mr. Charles R. Hott, Office of Crashworthiness Standards, NVS-113, National Highway Traffic Safety Administration, 400 Seventh Street, SW., Washington, DC 20590. Telephone (202) 366-0247. Fax: (202) 366-7002.

For legal issues: Eric Stas, Office of Chief Counsel, NCC-112, National Highway Traffic Safety Administration, 400 Seventh Street, SW., Washington, DC 20590. Telephone: (202) 366-2992 and fax: (202) 366-3820.

SUPPLEMENTARY INFORMATION:

Background

On June 2, 2004, the agency received a petition from Mr. Richard T. Ince, C & J Technology Inc., requesting that the agency review and amend paragraph S13.3(g) of FMVSS No. 111, “Rearview Mirrors,” which provides procedures for the placement of “cones” “P” and “L” in the school bus mirror test procedure for the driving mirrors. The petitioner stated that the change is needed “because the rule as stated provides unnecessary and dangerous blind spots in the operator's field of indirect vision along the sides of the school bus.”

The petitioner stated that S9.1 of the standard requires that exterior driving mirrors be tested using cones placed in accordance with the requirements specified in S13. S13 requires the placement of 18 cylinders ¹ of a specified height and size at various locations around the school bus. He said cylinder P on the passenger side of the vehicle is placed at 3.6 meters (12 feet) to the right of the longitudinal vertical plane tangent at the center of the rear axle. He said that cylinder L on the driver side, is placed at 1.8 meters (6 feet) to the left of the longitudinal vertical plane tangent at the center of the rear axle. The petitioner asserted that meeting such requirements “builds into the vehicle blind spots along the sides of the vehicle that are unnecessary and dangerous,” and he illustrated this with an Exhibit B (Figure 1). C & J Technology claims that these blind spots put the operator and any children along the sides of the vehicle in a dangerous position as the bus leaves a stop, because the driver cannot see the blind spot areas in the rearview mirror system. The petitioner claims that in such situations the driver would be forced to physically look at these areas before moving the bus forward; however, if the driver does not, it could be especially dangerous to children in these blind spots.

¹ It is noted that the petitioner incorrectly implies that the regulation uses “cones” to measure compliance with the standard. The standard uses cylinders that are 0.3048 meters (1 foot) high and 0.0348 meters (1 foot) in diameter. The standard uses cylinders (not cones) because, as stated in the December 2, 1992 final rule, the agency believes 0.3048 meter (1 foot) cylinders more accurately represent a child that is bending over or has fallen down. (57 FR 57000)

C & J Technology's recommended solution is to amend the standard so that cylinders L and P are moved out from the center of the rear axle to a point that would reduce or eliminate the alleged blind spot problem. The petitioner stated that with the use of the “BDS Dead Angle Spot Mirror,” the field of vision could increase to a level up to 65 percent greater than that provided by the standard's current requirements. The petitioner further stated that the “BDS Dead Angle Spot Mirror” is a wide angle glass, and it is cut in such a manner as to make it possible to move the cylinders out to approximately 21.4 meters (70 feet) from the center of the rear axle, thereby making “the entire side of the bus visible with just a glance in the mirror by the operator.”

Analysis of the Petitioner's Argument

The statement provided by C & J Technology, which asserts that the test procedure requirements in the standard builds into the vehicle dangerous blind spots, is inaccurate. Currently, all school buses are required to have two mirror systems, System A mirrors that are typically called “driving mirrors,” and System B mirrors which are pedestrian detection mirrors. The System A mirrors are used by the operator to maneuver the school bus safely in traffic. The System B mirrors are pedestrian detection mirrors that are used by the operator while loading and unloading passengers. The requirements for two mirror systems were established to ensure that the school bus driver has the requisite field of vision for both pedestrian detection and navigation of the roadway. The standard requires that the driver have a direct or indirect field-of-view immediately in front of the bus and along both sides of the school bus in order to ensure that there are no blind spots. Figure 2 presents a graphic with the minimum viewing areas required by the standard. The petition asserts that the System A driving mirrors may not serve as adequate pedestrian detection mirrors. Even accepting this as true, the driving mirrors are not intended to serve as pedestrian detection mirrors.

Decision To Deny the Petition

In accordance with 49 CFR part 552, this completes the agency's review of the petition for rulemaking. For the reasons stated above, the petition for rulemaking is denied.

Authority: 49 U.S.C. 322, 3011, 30115, 30117, and, 30162; delegation of authority at 49 CFR 1.50 and 501.8.

BILLING CODE 4910-59-P

Issued on: March 2, 2005.
Stephen R. Kratzke,
Associate Administrator for Rulemaking.

[FR Doc. 05-4434 Filed 3-7-05; 8:45 am]

BILLING CODE 4910-59-C